COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete services previously furnished by such agencies.

Comments Must be Received on or Before: June 1, 2007.

ADDRESSES: Committee for Purchase From People Who Are Blind or Severely Disabled Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List.

Comments on this certification are invited. Commenters should identify the statement(s) underlying the certification on which they are providing additional information.

End of Certification

The following services are proposed for addition to Procurement List for production by the nonprofit agencies listed:

Services

Service Type/Location: Custodial Services, Transportation Security Administration, O'Hare International Airport (TSA Leased and Congressionally Mandated Spaces), 10000 Bessie Coleman Drive, Chicago, IL.

NPA: Goodwill Services of Chicago, Chicago, IL.

Contracting Activity: GSA, Public Buildings Service, Region 5, Chicago, IL.

Service Type/Location: Document Destruction, Internal Revenue Service (9 locations in Florida), 1 Dependent Drive, 200 W. Forsyth Street, 4057 Carmichael Drive, 550 Water Street, 6800 Southpoint Parkway, 841 Prudential Drive, Jacksonville, FL; 104 N. Main Street, Gainsville, FL; 330 SW., 34th Avenue (Paddock Park), Ocala, FL; 921 N. Nova Boulevard, Holly Hill, FL.

NPA: Challenge Enterprises of North Florida, Inc., Green Cove Springs, FL.

Contracting Activity: Department of Treasury, Internal Revenue Services, Chamblee, GA.

Service Type/Location: Facility Support Operations, Directorate of Public Works, Fort Bliss, El Paso, TX.

NPA: PRIDE Industries, Inc., Roseville, CA.

Contracting Activity: Directorate of Contracting, ARMY-Bliss, Fort Bliss, TX.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Family Housing Maintenance, Watervliet Arsenal (Rotterdam Housing Area), Watervliet, NY.

NPA: Uncle Sam's House, Inc., Schenectady, NY.

Contracting Activity: Watervliet Arsenal, Watervliet, New York.

Service Type/Location: Food Service Attendant, Air National Guard-Phoenix, 3200 E. Old Tower Road, Phoenix, AZ.

NPA: Goodwill Community Services, Inc., Phoenix, AZ.

Contracting Activity: Air National Guard-Phoenix, Phoenix, AZ.

Kimberly M. Zeich,
Director, Program Operations.

[FR Doc. E7-10597 Filed 5-31-07; 8:45 am]

BILLING CODE 6353-01-P